DEPARTMENT OF ENERGY

Section 3116 Determination for Salt Waste Disposal at the Savannah River Site

AGENCY: Office of Environmental Management, Department of Energy.

ACTION: Notice of Availability.

SUMMARY: The Department of Energy (DOE) announces the availability of a section 3116 determination for the disposal of separated, solidified, low-activity salt waste at the Savannah River Site (SRS) near Aiken, South Carolina. Section 3116 of the Ronald W. Reagan National Defense Authorization Act for Fiscal Year 2005 authorizes the Secretary of Energy, in consultation with the Nuclear Regulatory Commission, to determine that certain waste from reprocessing is not high-level waste (HLW) if it meets the statutory criteria set forth in Section 3116. The Section 3116 determination sets forth the basis on which the Secretary has determined that the salt waste is not high-level waste because it (1) does not require permanent isolation in a deep geologic repository, (2) has had highly radioactive radionuclides removed to the maximum extent practical, and (3) meets the NRC performance objectives for the disposal of low level waste. In a separate notice published in today's Federal Register, DOE is also making available the amended Record of Decision for Savannah River Site Salt Processing Alternatives Final Supplemental Environmental Impact Statement, originally issued on October 17, 2001 (66 FR 52752).

ADDRESSES: The final determination, as well as DOE's responses to the public comments received on the draft determination, are available on the Internet at http://apps.em.doe.gov/swd, and are publicly available for review at the following locations: U.S. Department of Energy, Public Reading Room, 1000 Independence Avenue, SW., Room 1E-190, Washington, DC 20585, Phone: (202) 586-5955, or Fax: (202) 586-0575; and U.S. Department of Energy, Savannah River Operations Office, Public Reading Room, 171 University Parkway, Aiken, SC 29801, Phone: (803) 641-3320, or Fax: (803) 641-3302.

SUPPLEMENTARY INFORMATION: As of November 2005 there are 36.4 million gallons (Mgal) of liquid radioactive waste stored in underground waste storage tanks at SRS. The waste consists of two distinct kinds of material: approximately 2.6 Mgal of sludge, comprised primarily of metals that settled at the bottom of the tanks; and approximately 33.8 Mgal of salt waste, which is comprised of concentrated salt solution (supernate) and crystallized saltcake.

DOE's plans call for stabilizing and disposing of retrieved sludge in a deep geologic repository for spent nuclear fuel and high-level radioactive waste. This will be done by stabilizing the HLW in a borosilicate glass matrix through vitrification in a facility known as the Defense Waste Processing Facility (DWPF). This process has been ongoing since 1996.

Regarding the salt waste, DOE plans to remove cesium, strontium, and actinides from these materials using a variety of technologies, combining the removed cesium, strontium, and actinides with the sludge being vitrified in DWPF, and solidifying the remaining low-activity salt stream into a grout matrix, known as saltstone grout, suitable for disposal in vaults at the Saltstone Disposal Facility at SRS. The disposal of this low-activity salt stream on site is the subject of this section 3116 determination.

DOE is separating the salt waste to segregate the low-activity fraction using a two-phase, three-part process. The first phase will involve two parts to treat the lower activity salt waste: (1) Beginning in 2006, DOE will process a minimal amount of the lowest-activity salt waste through a process involving deliquification, dissolution, and adjustment of the waste; and (2) beginning in 2007, DOE will process a minimal amount of additional salt waste with slightly higher activity levels using an Actinide Removal Process and a Modular Caustic Side Solvent Extraction Unit. The second, and longer-term phase, which is scheduled to begin in 2011, involves the separation and processing of the remaining (and by far the majority) of the salt waste using a high capacity Salt Waste Processing Facility, augmented as necessary by the Actinide Removal Process. This second phase will begin as soon as the Salt Waste Processing Facility is constructed, permitted by the State of South Carolina, and operational.

DOE believes that this two-phase, three-part approach to processing and disposing of the salt waste at SRS will enable it to complete cleanup and closure of the tanks years earlier and maximize reduction of the potential risks that the tank wastes pose to the environment, the public, and SRS workers. Taken together, the various technologies that will be used are expected to result in the removal and vitrification through the DWPF of 98 to 99 percent of the total radioactivity currently contained in the salt waste, while minimizing the time that waste will be stored in the underground tanks, some of which have a known history of leaks.

Issued in Washington, DC, on January 17, 2006.
James A. Rispoli,
Assistant Secretary for Environmental Management.

[FR Doc. E6-814 Filed 1-23-06; 8:45 am]

BILLING CODE 6450-01-P